DEPARTMENT OF HOMELAND SECURITY

Transportation Security Administration

New Emergency Agency Information Collection Activity Under OMB Review: Registered Traveler (RT) Pilot Program; Satisfaction and Effectiveness Measurement Data Collection Instruments

AGENCY: Transportation Security Administration, DHS.

ACTION: Notice of emergency clearance request.

SUMMARY: This notice announces that the Transportation Security Administration (TSA) has forwarded the revised Information Collection Request (ICR) abstracted below to the Office of Management and Budget (OMB) for emergency processing and approval under the Paperwork Reduction Act. The ICR describes the nature of information collection and its expected burden.

DATES: Send your comments by June 30, 2006. A comment to OMB is most effective if OMB receives it within 30 days of publication.

ADDRESSES: Comments may be e-mailed to the Office of Information and Regulatory Affairs, Office of Management and Budget, DHS-TSA Desk Officer at nathan.lesser@omb.eop.gov.

FOR FURTHER INFORMATION CONTACT: Katrina Wawer, Attorney-Advisor, Office of the Chief Counsel, TSA-2, Transportation Security Administration, 601 South 12th Street, Arlington, VA 22202-4220; telephone (571) 227-1995; facsimile (571) 227-1381.

SUPPLEMENTARY INFORMATION:

Comments Invited

In accordance with the Paperwork Reduction Act of 1995 (44 U.S.C. 3501 et seq.), an agency may not conduct or sponsor, and a person is not required to respond to, a collection of information unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Registered Traveler (RT) Pilot Program; Satisfaction and Effectiveness Measurement Data Collection Instruments.

Type of Request: Emergency processing request of revised collection.

OMB Control Number: 1652-0019.

Forms(s): Electronic enrollment application; satisfaction survey.

Affected Public: Applicants to the RT Program and lead stakeholders.

Abstract: TSA is continuing the ongoing Registered Traveler (RT) Pilot Program at one airport, which is already approved by OMB, to test and evaluate specific technologies and business processes related to the RT concept. In addition, TSA will expand the current pilot to additional locations and incorporate a public/private partnership. TSA, through its partnership with Sponsoring Entities, who under contract to TSA, will collect and retain, from their private-sector central information management system, personal information on individuals who volunteer to participate in the program. This will allow TSA to complete name-based security threat assessments and issue an RT card to volunteers. In addition, TSA will administer two instruments to measure satisfaction of RT pilot participants and key stakeholders.

For the purpose of continuing metrics analysis, testing interoperability of systems, and testing the private/public model of operations, TSA is seeking emergency processing of this request in order to begin collecting information in June 2006. TSA Assistant Secretary Kip Hawley testified to Congress that TSA would be ready to allow eligible participants to enroll in the RT Program beginning June 20, 2006. In addition, TSA is seeking emergency processing of this request in order to meet the expectations of our stakeholders, partners, and members of the traveling public. Based on these initial programs, TSA may then consider an expansion of the RT Program.

Number of Respondents: 400,100.

Estimated Annual Burden Hours: An estimated 156,040 hours annually.

Issued in Arlington, Virginia, on May 24, 2006.
Lisa Dean,
Privacy Officer.

[FR Doc. E6-8392 Filed 5-30-06; 8:45 am]

BILLING CODE 9110-05-P